DEPARTMENT OF HOMELAND SECURITY

Bureau of Customs and Border Protection

Notice of Availability for Public Viewing of a Final Programmatic Environmental Assessment and a Finding of No Significant Impact (FONSI) Relative to Customs and Border Protection's Gamma Imaging Inspection System for Use at Various Sea and Land Ports of Entry

AGENCY: Customs and Border Protection, Department of Homeland Security.

ACTION: General notice.

SUMMARY: This document announces the availability for public viewing of a Final Programmatic Environmental Assessment (PEA) and a Finding of No Significant Impact (FONSI) relative to the gamma imaging inspection system employed by the Bureau of Customs and Border Protection at various sea and land ports of entry. The Final PEA and FONSI are being issued and made available to the public in accordance with the National Environmental Policy Act of 1969 (NEPA) and the Council on Environmental Quality (CEQ) regulations for Implementing the NEPA.

DATES: The Final PEA and the FONSI will be available for public review for a 30-day period beginning on September 16, 2004.

ADDRESSES: Copies of the Final PEA and FONSI may be obtained by writing, telephoning, or e-mailing, respectively, as follows: U.S. Customs and Border Protection, Suite 1575, 1300 Pennsylvania Avenue, NW., Washington, DC 20229, Attn: Mr. Thomas Nelson; (202) 344-2975; or THOMAS.Nelson@associates.dhs.gov; or by accessing the following Web site address (click on “Recent Federal Register Notices”): http://www.cbp.gov/xp/cgov/toolbox/legal.

FOR FURTHER INFORMATION CONTACT: Mr. Thomas Nelson at (202) 344-2975 or at THOMAS.Nelson@associates.dhs.gov.

SUPPLEMENTARY INFORMATION:

Background

On May 12, 2004, U.S. Customs and Border Protection (CBP) published a general notice document in the Federal Register (69 FR 26400) entitled: “Notice of Availability for Public Viewing of a Draft Programmatic Environmental Assessment Concerning CBP's Use of the Vehicle and Cargo Inspection System (VACIS) at Various Sea and Land Ports of Entry.” The May 2004 notice indicated that the draft Programmatic Environmental Assessment (PEA) had been prepared and made available to the public in accordance with the National Environmental Policy Act of 1969 (NEPA), the Council on Environmental Quality (CEQ) Regulations for Implementing the NEPA (40 CFR parts 1500-1508), and Department of the Treasury Directive 75-02 (Department of the Treasury Environmental Quality Program). The notice discussed the gamma imaging or radiation inspection system (referred to there as the VACIS system), briefly explained the applicable NEPA process, informed the public on how to obtain a copy of the draft PEA, and requested comments from the public on the draft PEA.

As set forth in the notice, the VACIS system employs a non-intrusive inspection technique that uses low energy gamma radiation technology and allows CBP inspectors to inspect for contraband without having to physically enter into or unload motor vehicles, containers, or other conveyances. Deployment of this technology is already underway and will continue at various land ports and sea ports of entry throughout the United States and Puerto Rico. Given the serious nature of CBP's mission to protect the nation's borders from terrorism, it is envisioned that all ports are candidates for deployment of this technology in the future.

The NEPA Process

NEPA requires that an agency evaluate for environmental implications any proposal of a major Federal action that significantly affects the quality of the human environment. Under § 1508.18(a) of the CEQ regulations (40 CFR 1508.18(a)), a major Federal action includes not only new activities but also continuing agency activities, such as the gamma imaging inspection system deployed by CBP. To meet the NEPA evaluation requirement, a Federal agency, in some instances, must produce an Environmental Impact Statement (EIS) that thoroughly examines the environmental implications (or impacts) of a major Federal action. In other instances, an agency need only prepare an Environmental Assessment (EA) that briefly analyzes the environmental impacts to assist the agency in decision making. An EA is preliminary to production of either an EIS or a Finding of No Significant Impact (FONSI), depending on the preliminary analysis and findings of the EA. The effect of a FONSI is that an agency will not have to produce an EIS. In still other instances, a categorical exclusion may apply to the Federal action, in which case the agency need not produce either an EA or an EIS. A programmatic EA (or PEA) is one that evaluates a major Federal action on a broad, programmatic basis and is then followed by Supplemental Environmental Assessments (referred to as Supplemental Environmental Documents or SEDs in the draft PEA) that focus the evaluation on particular site-specific localities.

Comments

The comment period announced in the May 2004 notice ended on June 28, 2004. Only six comments were received. The comments have been reviewed and are addressed in the Final PEA document.

Further Action

Following issuance of the Final PEA and the FONSI, CBP will issue a draft SED relative to each affected port of entry and make them available for public review by issuance of a notice of availability in a local newspaper of general circulation in each affected locality. Each draft SED will address a local deployment site at a particular port, evaluating potential environmental impacts with respect to the particular conditions present at each locality. Each draft SED also will solicit public comment. CBP will review the comments and then determine whether a FONSI or an EIS is warranted. (CBP notes that while the draft PEA indicated that notice of availability of draft SEDs will be published in the Federal Register, this is not necessary under the NEPA process and the CEQ regulations. Accordingly, CBP will publish notice of availability in local newspapers of general circulation.)

Public Review

The Final PEA and FONSI announced in this document will be available for public review for a period of 30 days beginning on the date this document is published in the Federal Register. The Final PEA/FONSI can be obtained as follows: By written request submitted to Customs and Border Protection, Suite 1575, 1300 Pennsylvania Avenue, NW., Washington, DC 20229, Attn: Mr. Thomas Nelson; by telephone at (202) 344-2975; by e-mail at: THOMAS.Nelson@associates.dhs.gov; or by accessing the following Web site address (click on “Recent Federal Register Notices”): http://www.cbp.gov/xp/cgov/toolbox/legal.

Dated: September 13, 2004.
Ira Reese,
Acting Assistant Commissioner, Office of Information and Technology.

[FR Doc. 04-20874 Filed 9-15-04; 8:45 am]

BILLING CODE 4820-02-P